DEPARTMENT OF HEALTH AND HUMAN SERVICES

Health Resources and Services Administration

Agency Information Collection Activities: Proposed Collection: Public Comment Request; Information Collection Request Title: Black Lung Clinics Program Performance Measures

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 20, 2024.

ADDRESSES: Submit your comments to paperwork@hrsa.gov or mail the HRSA Information Collection Clearance Officer, Room 14N39, 5600 Fishers Lane, Rockville, Maryland, 20857.

FOR FURTHER INFORMATION CONTACT: To request more information on the proposed project or to obtain a copy of the data collection plans and draft instruments, email paperwork@hrsa.gov or call Joella Roland, the HRSA Information Collection Clearance Officer, at (301) 443-3983.

SUPPLEMENTARY INFORMATION: When submitting comments or requesting information, please include the ICR title for reference.

Information Collection Request Title: Black Lung Clinics Program Performance Measures, OMB No. 0915-0292—Revision

Abstract: The Black Lung Clinics Program (BLCP) is authorized under sec. 427(a) of the Federal Mine Safety and Health Act of 1977 (30 U.S.C. 937(a)) and accompanying regulations (42 CFR part 55a). The purpose of the BLCP is to reduce the morbidity and mortality associated with occupationally related coal mine dust lung disease through the screening, diagnosis, and treatment of active, inactive, retired, and/or disabled coal miners. HRSA currently collects information about BLCP awards using an OMB-approved set of performance measures and seeks to extend the approved collection. There are no proposed changes to the performance measures; however, there is a 45-hour decrease in estimated burden hours due to the streamlining of the data collection process, allowing awardees/respondents to be more efficient in collecting and submitting the data for this information collection request. Collecting this data provides HRSA with information on how well each awardee is meeting the needs of these miners in their communities.

Need and Proposed Use of the Information: Data from the annual report provides quantitative information about the clinics, specifically: (1) the characteristics of the patients they serve (gender, age, disability level, occupation type); (2) the characteristics of services provided (medical encounters, non-medical encounters, benefits counseling, and outreach); and (3) the number of patients served. These programmatic performance measures enable HRSA to provide data required by Congress under the Government Performance and Results Act of 1993. It also ensures that funds are effectively used to provide services that meet the target population's needs. HRSA does not plan to make any changes to the performance measures at this time. The estimated average burden per response has decreased because the data collection process has been streamlined and enabled awardees/respondents to be more efficient in collecting and submitting the data for this information collection.

Likely Respondents: Respondents will be BLCP award recipients.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Black Lung Clinics Program Measures | 15 | 1 | 15 | 7 | 105
Total | 15 |  | 15 |  | 105

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2024-13653 Filed 6-20-24; 8:45 am]

BILLING CODE 4165-15-P